FEDERAL COMMUNICATIONS COMMISSION

Notice of Public Information Collection(s) Being Reviewed by the Federal Communications Commission, Comments Requested

June 18, 2004.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before August 24, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0798.

Title: FCC Application for Wireless Telecommunications Bureau Radio Service Authorization.

Form No.: FCC Form 601.

Type of Review: Revision of a currently approved collection.

Respondents: Business or other for-profit, not-for-profit institutions, individuals or household, and State, local or tribal government.

Number of Respondents: 250,520.

Estimated Time per Response: 1.25 hours.

Frequency of Response: On occasion reporting requirements, third party disclosure requirement, recordkeeping requirement, and other 10 years reporting requirement.

Total Annual Burden: 219,205 hours.

Total Annual Cost: $50,104,000.

Privacy Act Impact Assessment: Possible Impact.

Needs and Uses: FCC Form 601 is a consolidated, multi-part application or “long form” for market-based licensing and site-by-site licensing in the Wireless Telecommunications Bureau's (WTB) Radio Services' Universal Licensing System (ULS).

The information is used by the Commission to determine whether the applicant is legally, technically and financially qualified to be licensed.

The Wireless Telecommunications Bureau will begin issuing licenses for use of frequencies in the 764-776 and 794-806 MHz bands pursuant to Part 90 Subpart R.

There is no change to the estimated average burden and number of respondents at this time as it is unknown as to how additional respondents may partake in this frequency band.

OMB Control Number: 3060-1042.

Title: FCC Wireless Telecommunications Bureau Technical Support Request Form.

Form No.: N/A.

Type of Review: Revision of a currently approved collection.

Respondents: Business or other for-profit, not-for-profit institutions, individuals or household, and state, local or tribal government.

Number of Respondents: 25,500.

Estimated Time per Response: 8 minutes.

Frequency of Response: On occasion reporting requirements.

Total Annual Burden: 3,400 hours.

Total Annual Cost: $343,400.

Privacy Act Impact Assessment: Yes.

Needs and Uses: The FCC Wireless Telecommunications Bureau supports several processes and systems used to support their licensing and auction services. In offering this service, the public often requests help or consultation with these systems and processes. The FCC currently receives these requests via telephone, email, and the OMB approved form listed above (http://esupport.fcc.gov/request.hmt). This form will continue to substantially decrease public and staff burden since all the information needed to facilitate a support request will now be submitted in a standard format but be available to a wider audience. This will eliminate or at least minimize the need to follow-up with the customers to obtain all the information necessary to respond to their request. This form will also help presort requests into previously defined categories to all staff to respond more quickly.

The form is being revised to include the Bureau's entire customer base and better categorization for requests for support. This will further streamline the FCC's processes and expedite the response on all requests for support to the Bureau within one consolidated format.

Federal Communications Commission.
Marlene H. Dortch,
Secretary.

[FR Doc. 04-14479 Filed 6-24-04; 8:45 am]

BILLING CODE 6712-01-P